DEPARTMENT OF DEFENSE

Office of the Secretary

Department of Defense Military Family Readiness Council; Notice of Federal Advisory Committee Meeting; Cancellation

AGENCY: Under Secretary of Defense for Personnel and Readiness (USD(P&R)), Department of Defense (DoD).

ACTION: Notice of cancellation of Federal advisory committee meeting.

SUMMARY: On May 21, 2024, the DoD published a notice in the Federal Register announcing the next meeting of the DoD Military Family Readiness Council (MFRC) on Thursday, May 30, 2024, from 1:00 p.m. to 3:30 p.m. (EST). DoD is publishing this notice to announce that this Federal Advisory Committee meeting of the DoD MFRC is cancelled and will be rescheduled at a later date. The rescheduled meeting will be announced in the Federal Register.

DATES: Thursday, May 30, 2024, from 1 p.m. to 3:30 p.m.—CANCELLED.

FOR FURTHER INFORMATION CONTACT: Vesen L. Thompson, (703) 571-2360 (voice), OSD Pentagon OUSD P-R Mailbox Family Readiness Council, osd.pentagon.ousd-p-r.mbx.family-readiness-council@mail.mil (Email). Mailing address: Office of the Deputy Assistant Secretary of Defense (Military Community & Family Policy), 1500 Defense Pentagon, Washington, DC 20301-1500, Room 5A726. Website: http://www.militaryonesource.mil/those-who-support-mfrc.

SUPPLEMENTARY INFORMATION: Due to circumstances beyond the control of the DoD and the Designated Federal Officer, the DoD MFRC, was unable to provide public notification required by 41 CFR 102-3.150(a) concerning the cancellation of its May 30, 2024, meeting. Accordingly, the Advisory Committee Management Officer for Department of Defense, pursuant to 41 CFR 102-3.150(b), waives the 15-calendar day notification requirement.

Dated: June 2, 2024.
Aaron T. Siegel,
Alternate OSD Federal Register Liaison Officer, Department of Defense.

[FR Doc. 2024-12387 Filed 6-5-24; 8:45 am]

BILLING CODE 6001-FR-P